DEPARTMENT OF ENERGY

[Solicitation Number DE-PS07-031D14430]

Nuclear Engineering Education Research (NEER) Program

AGENCY: Idaho Operations Office, DOE.

ACTION: Notice of Availability of Solicitation for Awards of Financial Assistance.

SUMMARY: The U.S. Department of Energy, Idaho Operations Office, is soliciting applications for research and development grant awards in nuclear engineering topics. It is anticipated that on September 16, 2002, a full text for Solicitation Number DE-PS07-031D14430 for the 2003 NEER Program will be made available at the Industry Interactive Procurement System (IIPS) Website at: http://e-center.doe.gov. The deadline for receipt of applications will be on November 7, 2002. Applications are to be submitted via the IIPS Website. Directions on how to apply and submit applications are detailed under the solicitation on the Website.

FOR FURTHER INFORMATION CONTACT: Dallas Hoffer, Contracting Officer at hofferdI@id.doe.gov.

SUPPLEMENTARY INFORMATION: The solicitation will be issued in accordance with 10 CFR 600.6(b), eligibility for awards under this program will be restricted to U.S. colleges and universities with nuclear engineering degree programs or options or an operating research reactor, because the purpose of the Nuclear Engineering Education Research (NEER) program is to (1) support basic research in nuclear engineering; (2) assist in developing nuclear engineering students; and (3) contribute to strengthening the academic community's nuclear engineering infrastructure.

The statutory authority for this program is Public Law 95-91.

Issued in Idaho Falls on September 9, 2002.
R. J. Hoyles,
Director, Procurement Services Division.

[FR Doc. 02-23464 Filed 9-13-02; 8:45 am]

BILLING CODE 6450-01-P